DEPARTMENT OF TRANSPORTATION

Federal Aviation Administration

Revised Noise Exposure Map Notice: Receipt of Noise Compatibility Program and Request for Review for Jackson Hole Airport, Jackson, WY

AGENCY: Federal Aviation Administration, DOT.

ACTION: Notice.

SUMMARY: This revised notice, the restart of the Part 150 acceptance/approval process and associated dates is necessary because of the Federal Aviation Administration's need to acquire additional information from the Jackson Hole Airport Board. the Federal Aviation Administration (FAA) announces its determination that the noise exposure maps (NEM) submitted by the Jackson Hole Airport Board for Jackson Hole Airport under the provisions of 49 U.S.C. 47501 et. seq (Aviation Safety and Noise Abatement Act) and 14 CFR part 150 are in compliance with applicable requirements. The FAA also announces that it is reviewing a proposed noise compatibility program that was submitted for Jackson Hole Airport under part 150 in conjunction with the noise exposure map, and that this program will be approved or disapproved on or before May 17, 2004.

EFFECTIVE DATE: The effective date of the FAA's determination on the noise exposure maps and of the start of its review of the associated noise compatibility program is November 19, 2003. The public comment period ends January 18, 2004.

FOR FURTHER INFORMATION CONTACT: Dennis Ossenkop, Federal Aviation Administration, Airports Division, 1601 Lind Ave., SW., Renton, WA 98055-4056, telephone (425) 227-2611. Comments on the proposed noise compatibility program should also be submitted to the above office.

SUPPLEMENTARY INFORMATION: This notice announces that the FAA finds that the noise exposure maps submitted for Jackson Hole Airport are in compliance with applicable requirements of Part 150, effective November 19, 2003. Further, the FAA is reviewing a proposed noise compatibility program for that airport which will be approved or disapproved on or before May 17, 2004. This notice also announces the availability of this program for public review and comment.

Under 49 U.S.C., section 47503 (the Aviation Safety and Noise Abatement Act, hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport.

An airport operator who has submitted noise exposure maps that are found by the FAA to be in compliance with the requirements of Federal Aviation Regulations (FAR) part 150, promulgated pursuant to the Act, may submit a noise compatibility program for FAA approval which sets forth the measures the operator has taken or proposes to take to reduce existing non-compatible uses and prevent the introduction of additional non-compatible uses.

The Jackson Hole Airport Board submitted to the FAA on July 2, 2003, noise exposure maps, descriptions and other documentation that were produced during Jackson Hole Airport FAR Part 150 Study Update, dated July 1, 2003. It was requested that the FAA review this material as the noise exposure maps, as described in section 47503 of the Act, and that the noise mitigation measures, to be implemented jointly by the airport and surrounding communities, be approved as a noise compatibility program under section 47504 of the Act.

The FAA has completed its review of the noise exposure maps and related descriptions submitted by the Jackson Hole Airport Board. The specific documentation determined to constitute the Noise Exposure Maps includes the following from the May 2003, Jackson Hole Airport FAR part 150 Study Update:

Figure B1 at page B.5, Existing Noise Exposure Map, 2002;

Figure E1 at page E.8 Future Noise Exposure Map, 2008;

Figure D4 at page D.11 Flight Track/Noise Monitoring Sites;

Table A2 at page A.2 Revised Summary of Aviation Forecasts 2002-2008 and additional aviation activity data;

Table C4 at page C.5 Existing Land Use Within Existing Noise Contours presents estimates of the number of persons residing with the DNL 55, 60, and 65 noise contours;

Table E2 at page E.4 Future Noise Exposure Map with Existing Land Use, 2008, presents estimates of the number of persons residing with the DNL 55, 60, and 65 noise contours;

Appendix F presents Revised Consultation.

The year of submission (2003) airport operations data (shown in Table A1 at page A.2 as 35,779 operations) is equivalent to the submitted existing condition;

Noise Exposure Map (2002) operations data (also shown in Table A1 as 35,036) and the five-year forecast Noise Exposure Map is still reasonable.

The Jackson Hole Airport Board has stated, in a separate letter dated November 13, 2003, that there are no properties on or eligible for inclusion in the National Register of Historic Places.

The FAA has determined that these maps for Jackson Hole Airport are in compliance with applicable requirements. This determination is effective on November 19, 2003. The FAA's determination on an airport operator's noise exposure maps is limited to a finding that the maps were developed in accordance with the procedures contained in appendix A of FAR Part 150. Such determination does not constitute approval of the applicant's data, information or plans, or constitute a commitment to approve a noise compatibility program or to fund the implementation of that program.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through the FAA's review of noise exposure maps. Therefore, the responsibility for the detailed overlaying of noise exposure controls onto the map depicting properties on the surface rests exclusively with the airport operator that submitted those maps, or with those public agencies and planning agencies with which consultation is required under section 47503 of the Act. The FAA has relied on the certification by the airport operator, under section 150.21 of FAR Part 150, that the statutorily required consultation has been accomplished.

The FAA has formally received the noise compatibility program for Jackson Hole Airport, also effective on November 19, 2003. Preliminary review of the submitted material indicates that it conforms to the requirements for the submittal of noise compatibility programs, but that further review will be necessary prior to approval or disapproval of the program. The formal review period, limited by law to a maximum of 180 days, will be completed on or before May 17, 2004.

The FAA's detailed evaluation will be conducted under the provisions of 14 CFR part 150, section 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. The FAA will consider all comments, other than those properly addressed to local land use authorities, to the extent practicable. Copies of the noise exposure maps, the FAA's evaluation of the maps, and the proposed noise compatibility program are available for examination at the following locations:

Federal Aviation Administration, Airports Division, 1601 Lind Avenue, SW., Suite 315, Renton, Washington.

Denver Airports District Office, 26805 E. 68th Ave., Suite 224, Denver, Colorado.

Jackson Hole Airport, 1250 East Airport Road, Jackson, Wyoming.

Questions may be directed to the individual named above under the heading, FOR FURTHER INFORMATION CONTACT.

Issued in Renton, Washington, November 19, 2003.
Lowell H. Johnson,
Manager, Airports Division, Northwest Mountain Region.

[FR Doc. 03-30019 Filed 12-01-03; 8:45 am]

BILLING CODE 4910-13-M